DEPARTMENT OF ENERGY

Federal Energy Regulatory Commission

[Docket No. ER96-110-009, et al.]

Duke Power, et al.; Electric Rate and Corporate Regulation Filings

June 10, 2002.

The following filings have been made with the Commission. The filings are listed in ascending order within each docket classification.

1. Duke Power

[Docket No.ER96-110-009]

Take notice that on May 29, 2002, Duke Power, a division of Duke Energy Corporation, tendered for filing a revised Rate Schedule MR in compliance with the Letter Order dated May 14, 2002 in this proceeding.

Duke Power seeks an effective date of May 30, 2002 for the revised Rate Schedule MR.

Comment Date: June 19, 2002.

2. LSP Kendall Energy LLC

[Docket No. ER99-2602-002]

Take notice that on May 30, 2002, LSP Kendall Energy LLC requested confirmation that its obligation to make the triennial rate review compliance filing, which was originally imposed by the Federal Energy Regulatory Commission (Commission) in Docket No. ER99-2602-000, has since been extended from June 17, 2002 to January 28, 2004.

Comment Date: June 20, 2002.

3. American Electric Power Service Corporation

[Docket No. ER02-711-001]

Take notice that on May 31, 2002, American Electric Power Service Corporation submitted for filing an executed Interconnection and Parallel Operation Agreement, dated May 23, 2002, between Southwestern Electric Power Company (SWEPCO), Entergy Power Ventures, L.P., Northeast Texas Electric Cooperative, Inc. and EN Services, L.P. The agreement is pursuant to the AEP Companies' Open Access Transmission Service Tariff (OATT) that has been designated as the Operating Companies of the American Electric Power System FERC Electric Tariff Revised Volume No. 6, effective June 15, 2000.

SWEPCO requests an effective date of March 5, 2002. Copies of SWEPCO's filing have been served upon Entergy Power Ventures, LP, Northeast Texas Electric Cooperative, Inc., EN Services, L.P. and the Public Utility Commission of Texas.

Comment Date: June 21, 2002.

4. American Electric Power Service Corporation

[Docket No. ER02-2007-000]

Take notice that on June 3, 2002, American Electric Power Service Corporation (AEPSC) submitted for filing with the Federal Energy Regulatory Commission (Commission) unexecuted Service Agreements for ERCOT Regional Transmission Service (TSAs) with the following customers: Bandera Electric Cooperative, Inc.; City of Bastrop, Texas; City of Bellville, Texas; Bluebonnet Electric Cooperative, Inc.; City of Boerne, Texas; City of Brenham, Texas; City of Burnet, Texas; Central Texas Electric Cooperative, Inc.; City of Cuero, Texas; DeWitt Electric Cooperative, Inc.; Fayette Electric Cooperative, Inc.; City of Flatonia, Texas; City of Fredericksburg, Texas; City of Georgetown, Texas; City of Giddings, Texas; City of Goldthwaite, Texas; City of Gonzales, Texas; Guadalupe Valley Electric Cooperative, Inc.; City of Hallettsville, Texas; Hamilton County Electric Cooperative Association; City of Hempstead, Texas; Kerrville Public Utility Board; LaGrange Utilities; City of Lampasas, Texas; City of Lexington, Texas; City of Llano, Texas; City of Lockhart, Texas; City of Luling, Texas; Lyntegar Electric Cooperative, Inc.; City of Mason, Texas; City of Moulton, Texas; New Braunfels Utilities; San Bernard Electric Cooperative, Inc.; City of San Marcos, Texas; City of San Saba, Texas; City of Schulenburg, Texas; City of Seguin, Texas; City of Shiner, Texas; City of Smithville, Texas; Texas Municipal Power Agency, City of Waelder, Texas; City of Weimar, Texas; and City of Yoakum, Texas (the TSA Customers).

AEPSC seeks an effective date of January 1, 2002 for these TSAs and waiver of the Commission's notice requirements. AEPSC served copies of the filing upon the TSA Customers and the Public Utility Commission of Texas.

Comment Date: June 24, 2002.

5. Duke Energy Corporation

[Docket No. ER02-2008-000]

Take notice that on June 3, 2002, Duke Rnergy Corporation (Duke) on behalf of Duke Electric Transmission (Duke ET), tendered for filing an unexecuted Interconnection and Operating Agreement (IOA) between Duke ET and GenPower Anderson, LLC.

Duke requests an effective date of June 4, 2002 for the IOA.

Comment Date: June 24, 2002.

6. California Independent System Operator Corporation

[Docket No.ER02-2009-000]

Take notice that on June 3, 2002, the California Independent System Operator Corporation (ISO), tendered for filing a Participating Generator Agreement between the ISO and Energia de Baja California, S. de R.L. de C.V. (EdBC) for acceptance by the Commission.

The ISO states that this filing has been served on EdBC and the California Public Utilities Commission. The ISO is requesting waiver of the 60-day notice requirement to allow the Participating Generator Agreement to be made effective May 29, 2002.

Comment Date: June 24, 2002.

7. California Independent System Operator Corporation

[Docket No. ER02-2010-000]

Take notice that on June 3, 2002, the California Independent System Operator Corporation (ISO), tendered for filing with the Federal Energy Regulatory Commission (Commission) a Meter Service Agreement for Scheduling Coordinators between the ISO and Energia de Baja California, S. de R. L. de C. V. for acceptance by the Commission.

The ISO states that this filing has been served on Energia de Baja California, S. de R. L. de C. V. and the California Public Utilities Commission. The ISO is requesting waiver of the 60-day notice requirement to allow the Meter Service Agreement to be made effective as of May 29, 2002.

Comment Date: June 24, 2002.

8. Central Power and Light Company

[Docket No. ER02-2011-000]

Take notice that on June 3, 2002, Central Power and Light Company (CPL) submitted for filing amendments to the Interconnection Agreement, dated September 2, 1998 between CPL and South Texas Electric Cooperative, Inc. (STEC) that provide for two new points of interconnection between the parties. These new points of interconnection will be at STEC's new Warburton Road Substation and CPL's existing Mathis Substation. No other changes have been made to the Interconnection Agreement.

CPL seeks an effective date of August 1, 2002 for the Warburton Road point of interconnection. CPL seeks an effective date of January 1, 2003 for the Mathis point of interconnection, and accordingly, seeks waiver of the Commission's notice requirements. CPL served copies of the filing on STEC and the Public Utility Commission of Texas.

Comment Date: June 24, 2002.

9. Puget Sound Energy, Inc.

[Docket No. ER02-2012-000]

Take notice that on June 4, 2002, Puget Sound Energy, Inc., tendered for filing an Amendment No. 1 to Agreement for the Installation of Electrical Facilities—South SeaTac. Puget Sound Energy requests an effective date of May 17, 2001 for this filing.

The filing reflects an agreement between Puget Sound Energy and the Port of Seattle to modify payment obligations for the installation of certain substation and related facilities for service to Seattle Tacoma International Airport, and the Port of Seattle. Copies of the filing were served upon the parties listed in the certificate of service.

Comment Date: June 25, 2002.

10. Xcel Energy Services, Inc.

[Docket No. ER02-2013-000]

Take notice that on June 3, 2002, Xcel Energy Services, Inc. (XES), on behalf of Southwestern Public Service Company (SPS), submitted for filing a Transmission Agent Agreement between SPS and Roosevelt County Electric Cooperative, Inc. (Roosevelt County).

XES requests that this agreement become effective on January 14, 2002.

Comment Date: June 24, 2002.

11. Entergy Services, Inc.

[Docket No. ER02-2014-000]

Take notice that on June 3, 2002, Entergy Services, Inc., on behalf of the Entergy Operating Companies, Entergy Arkansas, Inc., Entergy Gulf States, Inc., Entergy Louisiana, Inc., Entergy Mississippi, Inc., and Entergy New Orleans, Inc. (collectively Entergy), filed Attachment Q to its Open Access Transmission Tariff. Attachment Q addresses local transmission constraints on the Entergy transmission system and provides a process for generators to participate in short-term bulk power markets without the necessity of a system impact study.

Entergy requests an effective date of August 1, 2002.

Comment Date: June 24, 2002.

12. Southern Company Services, Inc.

[Docket No. ER02-2015-000]

Take notice that on June 5, 2002, Southern Company Services, Inc. (SCS), acting on behalf of Georgia Power Company (GPC), filed with the Federal Energy Regulatory Commission (Commission) the Interconnection Agreement (Agreement) between Athens Development Company, L.L.C. and GPC. The Agreement allows Athens Development Company to interconnect its generating facility in Clarke County, Georgia to and operate in parallel with GPC's electric system. The Agreement is dated as of May 6, 2002.

An effective date of May 6, 2002 has been requested.

Comment Date: June 26, 2002.

13. Midwest Independent Transmission System Operator, Inc.

[Docket No. ER02-2016-000]

Take notice that on June 5, 2002, the Midwest Independent Transmission System Operator, Inc.(Midwest ISO), pursuant to Section 205 of the Federal Power Act and Section 35.12 of the Federal Energy Regulatory Commission's regulations, 18 CFR 35.12, submitted for filing an Interconnection and Operating Agreement among Valley Queen Cheese Factory, Inc., the Midwest ISO, and the Otter Tail Power Company.

A copy of this filing was sent to Valley Queen Cheese Factory, Inc. and the Otter Tail Power Company.

Comment Date: June 26, 2002.

14. Southeast Chicago Energy Project, LLC

[Docket No. ER02-2017-000]

Take notice that on June 5, 2002, Southeast Chicago Energy Project, LLC (Southeast Chicago) tendered for filing a cost-based rate wholesale power sales agreement between Southeast Chicago and Exelon Generation Company, LLC.

Comment Date: June 26, 2002.

15. Blythe Energy, LLC

[Docket No. ER02-2018-000]

Take notice that on June 5, 2002, Blythe Energy, LLC tendered for filing an application for authorization to sell energy, capacity and ancillary services at market-based rates pursuant to section 205 of the Federal Power Act.

Comment Date: June 26, 2002.

16. Oncor Electric Delivery Company

[Docket No. ER02-2020-000]

Take notice that on June 5, 2002, Oncor Electric Delivery Company (Oncor) tendered for filing its FERC Electric Tariff, Seventh Revised Volume No. 1 for Transmission Service To, From and Over Certain HVDC Interconnections to supersede Oncor's current FERC Electric Tariff, Sixth Revised Volume No. 1.

Oncor states that this filing has been served upon each customer taking service under the tariff and the Public Utility Commission of Texas.

Comment Date: June 26, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-15122 Filed 6-14-02; 8:45 am]

BILLING CODE 6717-01-P